FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 010979-068.

Agreement Name: Caribbean Shipowners Association.

Parties: Crowley Caribbean Services LLC; Hybur Ltd.; King Ocean Services Limited, Inc.; Seaboard Marine Ltd.; Seacor Island Lines, LLC; and Tropical Shipping & Contruction Co., Ltd.

Filing Party: Wayne Rohde, Cozen O'Connor.

Synopsis: The amendment adds Seacor Island Lines LLC as a party to the Agreement.

Proposed Effective Date: 6/23/2022.

Location: https://www2.fmc.gov/FMC.Agreements.Web/Public/AgreementHistory/1194.

Agreement No.: 201265-002.

Agreement Name: Crowley/Seaboard Costa Rica & Panama Space Charter Agreement.

Parties: Crowley Latin America Services, LLC and Seaboard Marine Ltd.

Filing Party: Wayne Rohde; Cozen O'Connor.

Synopsis: The amendment revises Article 7 to extend the minimum duration of the Agreement.

Proposed Effective Date: 6/25/2022.

Location: https://www2.fmc.gov/FMC.Agreements.Web/Public/AgreementHistory/15263.

Agreement No.: 201386.

Agreement Name: Hapag-Lloyd/Zim TEX Space Charter Agreement.

Parties: Hapag-Lloyd AG and Zim Integrated Shipping Services Ltd.

Filing Party: Wayne Rohde; Cozen O'Connor.

Synopsis: The Agreement authorizes Hapag-Lloyd to charter space to Zim in the trade between ports in Turkey and Morocco on the one hand and ports on the Atlantic Coast of the United States on the other hand.

Proposed Effective Date: 5/11/2022.

Location: https://www2.fmc.gov/FMC.Agreements.Web/Public/AgreementHistory/63505.

Agreement No.: 201269-001.

Agreement Name: Seaboard/Crowley Miami & Kingston Space Charter Agreement.

Parties: Crowley Caribbean Services LLC and Seaboard Marine Ltd.

Filing Party: Wayne Rohde; Cozen O'Connor.

Synopsis: The amendment revises Article 7 to extend the minimum duration of the Agreement.

Proposed Effective Date: 6/25/2022.

Location: https://www2.fmc.gov/FMC.Agreements.Web/Public/AgreementHistory/15289.

Agreement No.: 012276-002.

Agreement Name: Hapag-Lloyd/Zim Mediterranean Slot Exchange Agreement.

Parties: Hapag-Lloyd AG and Zim Integrated Shipping Services Ltd.

Filing Party: Wayne Rohde; Cozen O'Connor.

Synopsis: The amendment revises the Agreement by deleting Colombia, the Dominican Republic, and Jamaica from the geographic scope; revising Article 5.1 to change the amount of space being exchanged and the strings on which it is exchanged; deleting certain ports from Article 5.2; and extending the minimum duration in Article 7.2.

Proposed Effective Date: 6/25/2022.

Location: https://www2.fmc.gov/FMC.Agreements.Web/Public/AgreementHistory/135.

Agreement No.: 201385.

Agreement Name: ONE/ELJSA Slot Exchange Agreement.

Parties: Ocean Network Express Pte. Ltd. and Evergreen Line Joint Service Agreement.

Filing Party: Joshua Stein, Cozen O'Connor.

Synopsis: The Agreement authorizes the parties to exchange space on their HTW and FP1 services in the trade between ports in Japan, Taiwan and The People's Republic of China on the one hand, and U.S. ports in the Pacific coast range on the other hand. Republishing to reflect parties' request for expedited review.

Proposed Effective Date: 6/13/2022.

Location: https://www2.fmc.gov/FMC.Agreements.Web/Public/AgreementHistory/62502.

Dated: May 13, 2022.
William Cody,
Secretary.

[FR Doc. 2022-10690 Filed 5-17-22; 8:45 am]

BILLING CODE 6730-02-P